ELECTION ASSISTANCE COMMISSION

Federal Advisory Committee Act; Standards Board Charter Renewal

AGENCY: Election Assistance Commission.

ACTION: Notice of Charter Renewal.

SUMMARY: In accordance with the Federal Advisory Committee Act (Pub. L. 92-463), the purpose of this notice is to announce that the Election Assistance Commission (EAC) has renewed the charter for the Standards Board for a two-year period through October 27, 2010. The Standards Board is a Federal advisory committee under the Federal Advisory Committee Act.

DATES: Renewed through October 27, 2010.

ADDRESSES: Election Assistance Commission, 1225 New York Avenue, NW., Suite 1100, Washington, DC 20005.

FOR FURTHER INFORMATION CONTACT: Gineen Beach, Designated Federal Officer, at (202) 566-3100. E-mail: havainfo@eac.gov.

SUPPLEMENTARY INFORMATION: The Standards Board is a Federal advisory committee created by statute whose mission is to advise the EAC through review of the voluntary voting systems guidelines; through review of voluntary guidance; and review of best practices recommendations. In accordance with the Federal Advisory Committee Act, Public Law 92-463, as amended, this notice advises interested persons of the renewal of the Standards Board charter.

Thomas R. Wilkey,
Executive Director, U.S. Election Assistance Commission.

Charter of the U.S. Election Assistance Commission Standards Board

Official Designation: Election Assistance Commission Standards Board

The U.S. Election Assistance Commission (EAC) hereby Charters the Standards Board established in title II section 211 of the Help America Vote Act of 2002 (HAVA) [Pub. L. 107-252] pursuant to the Federal Advisory Committee Act.

Objectives and Duties

1. The objective of the Standards Board (the Board) is to advise the EAC through review of the voluntary voting systems guidelines (VVSG) described in title II Part 3 of HAVA when the EAC proposes updates to the VVSG; through review of the voluntary guidance described under title III of HAVA; and through the review of the best practices recommendations contained in the report submitted under Section 242(b) of title II of HAVA.

2. The Board will function solely as an advisory body and will comply fully with the provisions of the Federal Advisory Committee Act.

Membership

1. The Board shall consist of 110 members. Fifty-five members shall be State election officials selected by the chief State election official of each State. Fifty-five shall be local election officials selected under a process supervised by the chief election official of the State. The two members of the Standards Board who represent the same State may not be members of the same political party (HAVA title II section 213(a)). Vacancy appointments shall be made in the same manner as the original appointments.

2. The Board shall select nine of its members as an Executive Board of whom, not more than five may be State election officials; not more than five may be local election officials; and not more than five may be members of the same political party. Members of the Executive Board shall serve two-year terms and may not serve more than three consecutive terms. Of the initial Executive Board, three members shall serve for one term; three shall serve for two consecutive terms; and three shall serve for three consecutive terms, as determined by lot at the time the members are first appointed. (HAVA title II, section 213(c).)

Administrative Provisions

1. The Board will report to the EAC through the Advisory Committee Management Officer pursuant to 5 U.S.C. App. 1 section 8(b). This officer shall be a member of the EAC staff designated by the Chairman of the EAC.

2. Pursuant to HAVA, the Standards Board shall meet: (1) Not less frequently than once every year for purposes of voting on the voluntary voting system guidelines referred to the Board; (2) not less frequently than once every 2 years for purposes of selecting the Executive Board; and (3) at such other times as it considers appropriate for purposes of conducting such other business as it considers appropriate consistent with Title II. In addition, pursuant to the Board's bylaws, the Board will meet either on an annual basis or as otherwise requested by EAC to address the Board's responsibilities under HAVA and attend to other issues presented by EAC.

3. The EAC will provide clerical and other necessary support services to the Board. (HAVA title II, section 215(d).)

4. Members of the Board will not be compensated for their services but will be reimbursed for travel expenses and subsistence. (HAVA title II, section 215(e).)

5. The Board may use the United States mails in the same manner and under the same conditions as a department or agency of the Federal Government. (HAVA title II, section 215(c).)

6. The annual cost for operating the Board is estimated at $352,256.00 which includes one quarter staff year for support services.

7. The Board may establish such committees of its members as may be necessary subject to the provisions of the law.

8. The Board may, by simple majority vote, adopt resolutions and make recommendations. Such resolutions and recommendations will, however, be only advisory to the EAC and will be restricted to the EAC's activities described in title II, section 212 of the Help America Vote Act of 2002.

9. The EAC will provide liaison services between the Board and the Advisory Panel Secretariat as required by the Federal Advisory Committee Act.

Duration

While the duration of the Board is continuing, the Charter shall be renewed every two years from the date of the filing.

Dated: October 27, 2008.

Commissioner Gineen Beach,

DFO, U.S. Election Assistance Commission.

[FR Doc. E8-26144 Filed 10-31-08; 8:45 am]

BILLING CODE 6820-KF-P